DEPARTMENT OF AGRICULTURE

Forest Service

Humboldt Nevada Resource Advisory Committee; Meeting

AGENCY: Forest Service, USDA.

ACTION: Notice of meeting.

SUMMARY: The Humboldt Nevada Resource Advisory Committee (RAC) will meet in Winnemucca, Nevada. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: http://fs.usda.gov/goto/htnf/rac.

DATES: The meeting will be held on Wednesday, April 1, 2020 at 2:00 p.m.

All RAC meetings are subject to cancellation. For status of meeting prior to attendance, please contact the person listed under For Further Information Contact.

ADDRESSES: The meeting will be held at 3275 Fountain Way, Winnemucca, Nevada 89445, in the large conference room. A conference line will be set up for those unable to attend in person. The conference line is (888) 844-9904—access code: 7727626#.

Written comments may be submitted as described under Supplementary Information. All comments, including names and addresses when provided, are placed in the record and are available for public inspection and copying. The public may inspect comments received at 3275 Fountain Way, Winnemucca, Nevada. Please call ahead to facilitate entry into the building.

FOR FURTHER INFORMATION CONTACT: Joseph Garrotto, District Ranger by phone at 775-352-1215 or via email at joseph.garrotto@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review and recommend project proposals for Title II funds.

The meeting is open to the public. The agenda will include time for people to make oral statements of three minutes or less. Individuals wishing to make an oral statement should request in writing by Friday, March 13, 2020 to be scheduled on the agenda. Anyone who would like to bring related matters to the attention of the committee may file written statements with the committee staff before or after the meeting. Written comments and requests for time to make oral comments must be sent to Joseph Garrotto, District Ranger by phone at 775-352-1215 or via email at joseph.garrotto@usda.gov.

Meeting Accommodations: If you are a person requiring reasonable accommodation, please make requests in advance for sign language interpreting, assistive listening devices, or other reasonable accommodation. For access to the facility or proceedings, please contact the person listed in the section titled For Further Information Contact. All reasonable accommodation requests are managed on a case by case basis.

Dated: February 19, 2020.
Cikena Reid,
USDA Committee Management Officer.

[FR Doc. 2020-03690 Filed 2-24-20; 8:45 am]

BILLING CODE 3411-15-P